FEDERAL ELECTION COMMISSION

Sunshine Act Meeting Notice

DATE AND TIME: Tuesday, May 16, 2000 at 10:0 a.m.

PLACE: 999 E Street, NW, Washington, DC

STATUS: This meeting will be closed to the Public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE AND TIME: Thursday, May 18, 2000 at 10:00 a.m.

PLACE: 999 E Street, NW, Washington, DC (Ninth Floor).

STATUS: This Meeting will be open to the Public.

ITEMS TO BE DISCUSSED: Correction and Approval of Minutes.

Draft Advisory Opinion 2000-06—Gerald M. Moan on behalf of the 2000 Convention Committee of the Reform Party U.S.A.

Proposal to initiate a Notice of Proposed Rulemaking on Political Committee Definition (11 C.F.R. 100.5).

Administrative Matters.

PERSON TO CONTACT FOR INFORMATION: Mr. Ron Harris, Press Officer, Telephone: (202) 694-1220.

Mary W. Dove,
Acting Secretary of the Commission.

[FR Doc. 00-11881 Filed 5-8-00; 3:11 pm]

BILLING CODE 6715-01-M